SECURITIES AND EXCHANGE COMMISSION

[File No. 500-1]

Electronic Game Card, Inc.; Order of Suspension of Trading

February 19, 2010.

It appears to the Securities and Exchange Commission that there is a lack of current and accurate information concerning the securities of Electronic Game Card, Inc. (“EGMI”) because of questions regarding the accuracy of assertions by EGMI, and by others, in financial disclosures to investors concerning, among other things, the company's assets.

The Commission is of the opinion that the public interest and the protection of investors require a suspension of trading in the securities of the above-listed company.

Therefore, it is ordered, pursuant to Section 12(k) of the Securities Exchange Act of 1934, that trading in the securities of the above-listed company is suspended for the period from 9:30 a.m. EST, on February 19, 2010, through 11:59 p.m. EST, on March 4, 2010.

By the Commission.
Jill M. Peterson,
Assistant Secretary.

[FR Doc. 2010-3643 Filed 2-19-10; 4:15 pm]

BILLING CODE 8011-01-P